MERIT SYSTEMS PROTECTION BOARD

5 CFR Part 1206

Open Meetings

AGENCY: Merit Systems Protection Board.

ACTION: Final rule.

SUMMARY: The Merit Systems Protection Board (MSPB or the Board) is amending its rules in this part to reflect the relocation of its Washington, DC, headquarters. On July 24, 2000, the Board relocated its headquarters offices from 1120 Vermont Avenue, NW, to 1615 M Street, NW. The amendment to this part advises interested persons that information available to the public under this part will be made available by the Clerk of the Board at the new address.

EFFECTIVE DATE: August 10, 2000.

FOR FURTHER INFORMATION CONTACT: Robert E. Taylor, Clerk of the Board, (202) 653-7200.

The Board is publishing this rule as a final rule pursuant to 5 U.S.C. 1204(h).

List of Subjects in 5 CFR Part 1206

Administrative practice and procedures, Board meetings.

Accordingly, the Board amends 5 CFR part 1206 as follows:

PART 1206—OPEN MEETINGS

1. The authority citation for part 1206 continues to read as follows:

Authority: 5 U.S.C. 552b.

§ 1206.8 [Amended]

2. Amend 5 CFR 1206.8 by removing “1120 Vermont Avenue, NW.” and by adding in its place “1615 M Street, NW.”

Dated: August 4, 2000.
Robert E. Taylor,
Clerk of the Board.

[FR Doc. 00-20216 Filed 8-9-00; 8:45 am]

BILLING CODE 7400-01-M